DEPARTMENT OF DEFENSE

Office of the Secretary

Proposed Collection: Comment Request

AGENCY: Office of the Under Secretary of Defense (Personnel and Readiness).

ACTION: Notice.

In compliance with Section 3506(c)(2)(A) of the Paperwork Reduction Act of 1995, the Office of the Under Secretary of Defense (Personnel and Readiness) announces the following proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by August 24, 2001.

ADDRESSES: Written comments and recommendations on the proposed information collection should be sent to the Office of System Accountability, Attn: Dr. Janet Rope, Department of Defense Education Activity, 4040 N. Fairfax Drive, Arlington, VA 22003.

FOR FURTHER INFORMATION CONTACT: To request more information on this proposed information collection or to obtain a copy of the proposal and associated collection instruments, please write to the above address, or call the Office of System Accountability at (703) 696-4471.

Title and OMB Control Number: DoDEA Customer Satisfaction Survey for Parents and Students, OMB Control Number [to be determined].

Needs and Uses: The DoDEA Customer Satisfaction Survey is a tool used to measure the satisfaction level of parents, students, and teachers with the programs and services provided by the DoD Education Activity (DoDEA), in order to meet DoD Reform Initiative Directive #23: Defense Agency Performance Contracts which states: “The Directors of the specified Agencies and Field Activities will submit a performance contract covering the period of the Future Years Defense Plan (FYDP) FY 2000 through FY 2005. Each performance contract shall include measures of customer satisfaction with the goods and services provided by the Agency or Field Activity, including the timeliness of deliveries of products and services”.

Affected Public: Individuals or households.

Annual Burden Hours: 21,125 hours.

Number of Respondents: 169,000.

Responses per Respondent: 1.

Average Burden per Response: 15 minutes.

Frequency: Biennially.

SUPPLEMENTARY INFORMATION:

Summary of Information Collection

The DoDEA Customer Satisfaction Survey is a tool used to measure the satisfaction level of parents, students, and teachers with the programs and services provided by the DoD Education Activity (DoDEA), in order to meet DoD Reform Initiative Directive #23: Defense Agency Performance Contracts which states: “The Directors of the specified Agencies and Field Activities will submit a performance contract covering the period of the Future Years Defense Plan (FYDP) FY 2000 through FY 2005. Each performance contract shall include measures of customer satisfaction with the goods and services provided by the Agency or Field Activity, including the timeliness of deliveries of products and services”.

The DoDEA Customer Satisfaction Survey will be administered to all parents and teachers within the DoDEA school system, as well as students in grades 4-12. The survey is completely voluntary and will be administered through an on-line, web-based technology. The survey questions were adapted from the Phi Delta Kappa/Gallup Poll of the Public's Attitudes Toward Schools in order to have national comparison data. Some questions were altered slightly so that the wording more closely matched the DoDEA experience, however, any alterations should not affect the interpretation and comparison to the national data. The survey will give parents, students and teachers an opportunity to comment on their level of satisfaction with programmatic issues related to DoD schools. Some of the topics included on the survey are curriculum, communication, and technology. The surveys will be administered biennially.

The information derived from this survey will be used in the improvement planning efforts at all levels throughout DoDEA. Schools, districts and areas will use the results to gain insight into the satisfaction levels of their parents, students, and teachers which will be one of many measures used for further planning of programs and services offered to DoDEA's students. DoDEA system results will be used to monitor the strategic plan as well as be a part of the Director's performance contract with the DoD.

June 18, 2001.
Patricia L. Toppings,
Alternate OSD Federal Register Liaison Officer, Department of Defense.

[FR Doc. 01-15788 Filed 6-22-01; 8:45 am]

BILLING CODE 5001-08-M